DEPARTMENT OF ENERGY

[FE Docket No. PP-285]

Notice of Floodplain and Wetlands Involvement Sharyland Utilities, L.P.

AGENCY: Office of Fossil Energy, DOE.

ACTION: Notice of floodplain/wetland involvement.

SUMMARY: Sharyland Utilities, L.P. (Sharyland) has applied for a Presidential permit to construct, operate, maintain, and connect an electric transmission line across the U.S. border with Mexico. The proposed action has the potential to impact on a floodplain/wetlands. In accordance with DOE regulations for compliance with floodplain/wetlands environmental review requirements (10 CFR Part 1022), a floodplain or wetlands assessment will be performed for the proposed action in a manner so as to avoid or minimize potential harm to or within potentially affected floodplain and wetlands.

DATES: Comments are due to the address below no later than July 30, 2004.

ADDRESSES: Written comments, questions about the proposed action, and requests to review the draft environmental assessment should be directed to: Ellen Russell, Office of Coal & Power Import/Export (FE-27), Office of Fossil Energy, U.S. Department of Energy, 1000 Independence Avenue, SW., Washington, DC 20585-0350. Fax: (202) 287-5736, or e-mail: Ellen.Russell@hq.doe.gov.

FOR FURTHER INFORMATION CONTACT: Ellen Russell (Program Office) 202-586-9624 or Richard Ahern (Program Attorney—NEPA) 202-586-3692.

For Further Information on General DOE Floodplain and Wetlands Environmental Review Requirements Contact: Carol M. Borgstrom, Director, Office of NEPA Policy and Compliance (EH-42), U.S. Department of Energy, 1000 Independence Avenue, SW., Washington, DC 20585-0119; Phone: 202-586-4600 or leave a message at 800-472-2756.

SUPPLEMENTARY INFORMATION: Under Executive Order 11988, Floodplain Management, and 10 CFR Part 1022, Compliance with Floodplain-Wetlands Environmental Review Requirements (http://tis-nt.eh.doe.gov/nepa/tools/regulate/nepa_reg/1022/1022.htm), notice is given that DOE is considering an application from Sharyland for a Presidential permit to construct, operate, maintain and connect a 138,000-kilovolt (138-kV) transmission lines across the U.S. border with Mexico in the vicinity of McAllen and Mission, Texas, to interconnect with similar facilities of the Comision Federal de Electricidad, the national electric utility of Mexico. Notice of filing of the Sharyland Presidential permit application appeared in the Federal Register on October 2, 2003 (68 FR 56825).

Before making a final decision on granting or denying a Presidential permit, DOE will prepare an environmental assessment (EA) to address the environmental impacts that would accrue from the proposed project and reasonable alternatives. The EA will be prepared in compliance with the National Environmental Policy Act of 1969 (NEPA) (42 U.S.C. 4321 et seq.). Because the proposed action has the potential to impact on a floodplain/wetlands, the EA will include a floodplain and wetlands assessment. A floodplain statement of findings will be included in any Finding of No Significant Impact (FONSI) that may be issued following completion of the EA. Copies of the EA and FONSI may be requested by telephone, facsimile, or e-mail from the address given above.

Issued in Washington, DC, on July 9, 2004.
Anthony J. Como,
Deputy Director, Electric Power Regulation, Office of Coal & Power Import/Export, Office of Fossil Energy.

[FR Doc. 04-16063 Filed 7-14-04; 8:45 am]

BILLING CODE 6450-01-P